DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) Washington, DC provided such request if filed in writing with the Director of DTAA not later than October 1, 2001.

Also, interested persons are invited to submit written comments regarding the subject matter of the petitions to the Director of DTAA at the address shown below not later than October 1, 2001.

Petitions filed with the Governors are available for inspection at the Office of the Director, DTAA, ETA, DOL, Room C-5311, 200 Constitution Avenue, NW., Washington, DC 20210.

Signed at Washington, DC this 4th day of September, 2001.
Edward A. Tomchick,
Director, Division of Trade Adjustment Assistance.

Appendix
[09/04/2001]
Subject firm | Location | Date received at Governor's office | Petition No. | Articles produced
Kimlor Mills (Wkrs) | Orangeburg, SC | 07/09/2001 | NAFTA-5,044 | apparel.
Micron Electronics (Wkrs) | Nampa, ID | 05/24/2001 | NAFTA-5,045 | computer systems.
Harvard Industries, Inc. (UAW) | Stowe, PA | 06/29/2001 | NAFTA-5,046 | Stators, caps & covers—Automotive Use.
Graphic Controls (Co.) | Cherry Hill, NJ | 07/03/2001 | NAFTA-5,047 | cables and leadwires.
Cott Manufacturing (Co.) | West Mifflin, PA | 07/05/2001 | NAFTA-5,048 | warning signs.
John Crane (Co.) | Crystal Lake, IL | 07/09/2001 | NAFTA-5,049 | carbon & silicon carbide sealing.
Laco Sportwear (Co.) | Chattanooga, TN | 07/02/2001 | NAFTA-5,050 | knit tops.
Quality Fabricating (Wkrs) | N. Huntington, PA | 07/05/2001 | NAFTA-5,051 | sheet metal parts.
UCAR Carbon (Co.) | Clarksville, TN | 07/05/2001 | NAFTA-5,052 | graplit electrodes.
Greg Stout Logging (Co.) | Gold Hill, OR | 07/03/2001 | NAFTA-5,053 | lumber, plywood and wood chips.
Spectrum Control (Wkrs) | Elizabethtown, PA | 06/26/2001 | NAFTA-5,054 | microwave resonator products.
Alpha Industries (Wkrs) | Knoxville, TN | 07/09/2001 | NAFTA-5,055 | military jackets.
Bike Athletic (Co.) | Mountain City, TN | 07/09/2001 | NAFTA-5,056 | men's and ladies shorts.
Gamco Manufacturing (Co.) | Jamestown, TN | 07/09/2001 | NAFTA-5,057 | ladies sportswear and uniforms.
Tower Automotive (PACE) | Sebewaing, MI | 07/10/2001 | NAFTA-5,058 | auto supplier metal stamping.
JPS Apparel Fabrics (Co.) | Greenville, SC | 07/09/2001 | NAFTA-5,059 | spun & filament greige woven fabric.
JPS Apparel Fabrics (Co.) | South Boston, VA | 07/09/2001 | NAFTA-5,059 | spun & filament greige woven fabric.
JPS Apparel Fabrics (Co.) | New York, NY | 07/09/2001 | NAFTA-5,059 | spun & filament greige woven fabric.
JPS Apparel Fabrics (Co.) | Laurens, SC | 07/09/2001 | NAFTA-5,059 | spun & filament greige woven fabric.
ABC NACO (IBM) | Superior, WI | 07/10/2001 | NAFTA-5,060 | trackwork products for railroads.
Great Lakes Stitchery, Inc. (Comp.) | Manistee, MI | 07/17/2001 | NAFTA-5,061 | Ladies' and Men's Apparel.
M and S Manufacturing (Wkrs) | Hudson, MI | 07/17/2001 | NAFTA-5,062 | Screw Machine Products.
Angelica Corp. (Wrks.) | Mountain View, MO | 07/17/2001 | NAFTA-5,063 | Service Apparel.
Timken (USWA) | Columbus, OH | 07/16/2001 | NAFTA-5,064 | Bearing Reconditioning.
Harsco Corp (USWA) | Mechanicsburg, PA | 07/10/2001 | NAFTA-5,065 | Compressed Air Cylinders.
Carol Ann Fashions, Inc. (Wrks) | Hastings, PA | 07/13/2001 | NAFTA-5,066 | Ladies' Apparel.
Lamb-Grays Harbor Co (Comp) | Hoquiam, WA | 07/10/2001 | NAFTA-5,067 | Equipment for Pulp and Paper.
Rosti (Minden) (Co.) | Coushatta, LA | 07/09/2001 | NAFTA-5,068 | phone kits.
Cooper Bussmann (Co.) | Black Mountain, NC | 07/11/2001 | NAFTA-5,069 | electrical fuses.
Owens-BrigGam Medical (Co.) | Fletcher, NC | 07/05/2001 | NAFTA-5,070 | disposable medical supplies.
Modine Aftermarket Holdings (Wrks) | Merced, CA | 07/05/2001 | NAFTA-5,071 | accounting.
Endar Corp (Comp) | Temecula, CA | 07/11/2001 | NAFTA-5,072 | Potpourri.
DV and P, Inc. (Wrks) | New York, NY | 07/02/2001 | NAFTA-5,073 | ladies' suits, pants, blouses, skirts.
Plaid Clothing (Co.) | Somerset, KY | 07/13/2001 | NAFTA-5,074 | men's suits, jackets and pants.
Wilcox Forging (USWA) | Mechanisburg, PA | 07/10/2001 | NAFTA-5,075 | Steel Castings.
N. Oritsky (UNITE) | Reading, PA | 07/05/2001 | NAFTA-5,076 | men's suits and slacks.
Carter Industries, Inc (Wrks) | Brooklyn, NY | 07/16/2001 | NAFTA-5,077 | Jackets, Uniforms, Coveralls.
Bournn (Comp) | Ogden, UT | 07/16/2001 | NAFTA-5,078 | Optical Encoders.
Neles Automation USA (Co.) | Houston, TX | 07/16/2001 | NAFTA-5,079 | Industrial Control Valves.
Great Western International (Wrks) | Portland, OR | 07/13/2001 | NAFTA-5,080 | Industrial Chemicals.
Sparten International, Inc (Comp) | Spartanburg, SC | 07/16/2001 | NAFTA-5,081 | Woven Fabrics.
Yale Hoist (USWA) | Forest City, AR | 07/16/2001 | NAFTA-5,082 | Hoists.
Benmer Manufacturing, Inc (Wrks) | Rochester, NY | 07/12/2001 | NAFTA-5,083 | Fabricated Sheet Metal Products.
Guilford Mills (Wrks) | Greensboro, NC | 07/13/2001 | NAFTA-5,084 | ladies' swim wear and intimate apparel.
Dessor Lithibar (Wrks) | Holland, MI | 07/13/2001 | NAFTA-5,085 | Block and Brick Cutters & Splitters.
Hunt Forest Products, Inc (Comp) | Castor, LA | 07/17/2001 | NAFTA-5,086 | Pine Lumber.
RHI America (USWA) | Farber, MO | 07/17/2001 | NAFTA-5,087 | Fire Clay and Refractories Products.
RHI America (USWA) | Mexico, MO | 07/17/2001 | NAFTA-5,088 | Fire Brick & Specialities.
Malbon (Co.) | Hiram, GA | 07/18/2001 | NAFTA-5,089 | pants, slack, dresses, shirts & uniforms.
Square D (Wrks) | Huntington, IN | 07/18/2001 | NAFTA-5,090 | electric transformers.
TechnoTrim (Co.) | Maysville, KY | 07/18/2001 | NAFTA-5,091 | automobile seat covers.
Parker Hannifin (Co.) | Wake Forest, NC | 07/23/2001 | NAFTA-5,092 | air control devices.
A.O. Smith Electrical Products (Co.) | Mebane, NC | 07/23/2001 | NAFTA-5,093 | franctional.
Contempora Fabrics (Co.) | Lumberton, NC | 07/18/2001 | NAFTA-5,094 | circular knitted fabric.
Rexnord Corp.—Roller Chain (USWA) | Indianapolis, IN | 07/19/2001 | NAFTA-5,095 | industrial roller chains.
Sterling Packaging (Wkrs) | Jeannette, PA | 07/17/2001 | NAFTA-5,096 | paperboard boxes.
NYCO Minerals (Wkrs) | Willshoro, NY | 07/17/2001 | NAFTA-5,097 | fine grind stone.
Ogden Manufacturing (Co.) | Albany, WI | 07/17/2001 | NAFTA-5,098 | industrial electric heating elements.
Merry Maid Novelties (UNITE) | Bangor, PA | 07/17/2001 | NAFTA-5,099 | slacks, skirts and ladies' sportswear.
Merry Maid Novelties (UNITE) | Tatamy, PA | 07/17/2001 | NAFTA-5,099 | slacks, skirts and shirts—ladies'.
International Components Technology (Co.) | San Jose, CA | 07/13/2001 | NAFTA-5,100 | automotive safety products.
Nabisco Falls Bakery (IAMAW) | Niagara Falls, NY | 07/18/2001 | NAFTA-5,101 | triscuit line of shredded wheat.
General Mills (Wkrs) | Carlisle, PA | 07/18/2001 | NAFTA-5,102 | single serve fruit juice beverage.
PEC of American (Co.) | San Diego, CA | 07/17/2001 | NAFTA-5,103 | precision metal stamping parts.
Ceres Candles and Gifts (Wkrs) | Hayward, CA | 07/16/2001 | NAFTA-5,104 | botanical candles.
Ademco Group (Wkrs) | Syosset, NY | 07/18/2001 | NAFTA-5,105 | alarm system.
L.E. Smith Glass (Wkrs) | Mt. Pleasant, PA | 07/20/2001 | NAFTA-5,106 | lighting shades, glassware.
Michigan Bag (Co.) | Grand Haven, MI | 07/23/2001 | NAFTA-5,107 | men's and women's apparel.
Ryan Engineering and Design (Co.) | Pellston, MI | 07/18/2001 | NAFTA-5,108 | castings.
Safari Motor Coach (Wkrs) | Hines, OR | 07/16/2001 | NAFTA-5,109 | motor homes.
O'Bryan Brothers (Co.) | Leon, IA | 07/19/2001 | NAFTA-5,110 | ladies' underwear and day wear.
SMTC Mfg. Corp. of Wisconsin (Wkrs) | Appleton, WI | 07/19/2001 | NAFTA-5,111 | circuit boards.
Minnesota Twist (Wkrs) | Chisholm, MN | 07/19/2001 | NAFTA-5,112 | high speed drill bite.
C.T. Gamble Acquisition (Wkrs) | Delanco, NJ | 07/18/2001 | NAFTA-5,113 | electrical resistors.
Morgan Machine (USWA) | Fulton, MO | 07/17/2001 | NAFTA-5,114 | machined parts and brick products.
Hunt Forest Products (Co.) | Castor, LA | 07/17/2001 | NAFTA-5,115 | pine lumber used in buildings.
3Com Corporation (Wkrs) | Santa Clara, CA | 07/17/2001 | NAFTA-5,116 | network interface cards.
Besser Lithibar (Wkrs) | Holland, MI | 07/13/2001 | NAFTA-5,117 | block and brick cutters & splitters.
AMI Semiconductor (Wkrs) | Poatello, ID | 06/21/2001 | NAFTA-5,118 | integrated circuits.
Rebel Screeners (Co.) | Sharon, TN | 07/23/2001 | NAFTA-5,119 | screen prints sleepwear.
Arvin Menitor (Co.) | Pulaski, TN | 07/23/2001 | NAFTA-5,120 | shock absorber.
Thermo King (Wkrs) | Bloomington, MN | 07/19/2001 | NAFTA-5,121 | machining, tube bending/brazing castings.
Maxxim Medical (Wkrs) | Eaton, OH | 06/22/2001 | NAFTA-5,122 | pvc medical exam gloves.
Atlas Bag (Co.) | Houston, TX | 07/24/2001 | NAFTA-5,123 | bulk bags.
Superior Electric (Co.) | Bristol, CT | 06/13/2001 | NAFTA-5,124 | electrical components.
Sola Optical USA (Co.) | Eldon, MO | 07/24/2001 | NAFTA-5,125 | glass ophthalmic lenses and moulds.
AMI Doduco (Co.) | Cedar Knolls, NJ | 07/25/2001 | NAFTA-5,126 | electrical contact parts.
Evenflo Company (Wkrs) | Jasper, AL | 07/24/2001 | NAFTA-5,127 | car seat pads.
Ambler Industries (Co.) | Orangeburg, SC | 07/24/2001 | NAFTA-5,128 | men's and boy's suits.
Rugged Sportswear (Co.) | LaGrange, NC | 07/24/2001 | NAFTA-5,129 | t-shirts, fleece sweatshirts & sweatpants.
Delta Apparel (Co.) | Washington, GA | 07/25/2001 | NAFTA-5,130 | t-shirts.
Lincoln Automotive (Co.) | Jonesboro, AR | 07/25/2001 | NAFTA-5,131 | service jacks.
Gentron Corporation (Co.) | Clarksville, TN | 07/25/2001 | NAFTA-5,132 | refrigerator shelving.
Grover Industries (Co.) | Grover, NC | 07/25/2001 | NAFTA-5,133 | spun yarns.
Precision Flame (Co.) | Bourbonnais, IL | 07/25/2001 | NAFTA-5,134 | parts for tractors & mining equipment.
House Glass (AFGWU) | Point Marion, PA | 07/26/2001 | NAFTA-5,135 | silkscreened coffee mugs and glassware.
Federal Mogul (UAW) | St. Johns, MI | 07/26/2001 | NAFTA-5,136 | aluminum, copper or lead bushings.
Kemet Electronics (Co.) | Greenville, SC | 07/26/2001 | NAFTA-5,137 | capacitors.
Power One (Co.) | Allston, MA | 07/20/2001 | NAFTA-5,138 | power devices.
Garan (Co.) | Starkville, MS | 07/25/2001 | NAFTA-5,139 | knit and woven apparel.
Dyersburg Fabrics (Co.) | Dyersburg, TN | 07/25/2001 | NAFTA-5,140 | fleece, active wear.
Russell Corporation (Co.) | Lafayette, AL | 07/24/2001 | NAFTA-5,141 | knit apparel.
Russell Corporation (Co.) | Alexander City, AL | 07/24/2001 | NAFTA-5,141 | knit apparel.
Russell Corporation (Co.) | Sylacauga, AL | 07/24/2001 | NAFTA-5,141 | knit apparel.
Russell Corporation (Co.) | Alexander City, AL | 07/24/2001 | NAFTA-5,141 | knit apparel.
Agrium U.S. (Co.) | Kennewick, WA | 07/27/2001 | NAFTA-5,142 | ammonia.
Howes Leather (Co.) | Curwensville, PA | 07/27/2001 | NAFTA-5,143 | upholstery leather.
Manitowoc Boom Trucks (Wkrs) | York, PA | 07/28/2001 | NAFTA-5,144 | pedestals, turrets.
KMA Manufacturing (Co.) | Livingston, TN | 07/27/2001 | NAFTA-5,145 | men's and ladies' shirts.
Atchison Products (Wkrs) | Boonville, MO | 07/27/2001 | NAFTA-5,146 | sports bags, tote bags, briefcases.
Square D (Wkrs) | Cedar Rapids, IA | 07/23/2001 | NAFTA-5,147 | circuit breakers.
PlasticSource (Co.) | El Paso, TX | 07/30/2001 | NAFTA-5,148 | headlamp parts.
Oshkosh B'Gosh (Co.) | Albanky, KY | 07/30/2001 | NAFTA-5,149 | children's knit tops & bottoms.
Niedfeldt Trucking Services (IBT) | Lacrosse, WI | 07/26/2001 | NAFTA-5,150 | hauling brewery products.
Piskars Consumer Products (Wkrs) | Wausau, WI | 07/26/2001 | NAFTA-5,151 | scissors.
GKN Sinter Metals (Wkrs) | St. Marys, PA | 07/30/2001 | NAFTA-5,152 | powdered metal parts.
Philips ETG (Wkrs) | So. Plainfield, NJ | 07/20/2001 | NAFTA-5,153 | automated machines.
Barko Hydraulics (Wkrs) | Superior, WI | 08/02/2001 | NAFTA-5,154 | hydraulic knuckleboom loaders.
Con Agra Flour Milling (BCTW) | N. Kansas City, MO | 08/03/2001 | NAFTA-5,155 | wheat flour.
Con Agra Maple Leaf Milling (BCTGM) | Buffalo, NY | 08/03/2001 | NAFTA-5,156 | flour and flour by products.
Centennial Tool and Mfg. (Co.) | Meadville, PA | 08/03/2001 | NAFTA-5,157 | tooling for electronics.
Valeo Engine Cooling (IAMAW) | Jamestown, NY | 08/02/2001 | NAFTA-5,158 | engine cooling products.
Colorgraphic Web Offset (Wkrs) | Lancaster, NY | 07/17/2001 | NAFTA-5,159 | printed periodicals.
Alltrista Zinc Products (Co.) | Greeneville, TN | 08/02/2001 | NAFTA-5,160 | drawn zinc battery shells.
Gundeson, Inc. (Wkrs) | Portland, OR | 07/31/2001 | NAFTA-5,161 | rail cars .
MACCO Materials Handling Group (ILTBU) | Danville, IL | 08/01/2001 | NAFTA-5,162 | overhead guards.
Tcyo Electronics (Co.) | Glen Rock, PA | 08/02/2001 | NAFTA-5,163 | fiber optics.
Kysor Panel Systems—Enadis Corp. (WCIW) | Portland, OR | 08/01/2001 | NAFTA-5,164 | walk-in freezers.
Elcom, Inc. (Wkrs) | El Paso, TX | 08/02/2001 | NAFTA-5,165 | wire harness and plastic.
TNT Logistics (Wkrs) | Bloomington, IN | 08/01/2001 | NAFTA-5,166 | logistics provider.
Coats North America (Co.) | Thomasville, GA | 07/30/2001 | NAFTA-5,167 | industrial thread.
CMI Industries (Co.) | Clarkesville, GA | 07/24/2001 | NAFTA-5,168 | polyester and ploy/nylon blend.
A.O. Smith (Wkrs) | Owosso, MI | 08/01/2001 | NAFTA-5,169 | metal stampings.
Briggs and Stratton (PACE) | Milwaukee, WI | 07/31/2001 | NAFTA-5,170 | cranks, cam and flywheels.
Huntsman Polymers (Wkrs) | Odessa, TX | 07/31/2001 | NAFTA-5,171 | styrene monomer.
Admiral Marine Construction (Wkrs) | Port Angeles, WA | 07/31/2001 | NAFTA-5,172 | components.
Albany Chicago (Wkrs) | Pleasant Prairie, WI | 07/30/2001 | NAFTA-5,173 | custom die cast.
Engel Machinery (Wkrs) | York, PA | 08/06/2001 | NAFTA-5,174 | injection molding machines.
Paxar Fabric Label (Wkrs) | Canton, NC | 07/30/2001 | NAFTA-5,175 | labels.
Greenwood Mills (UNITE) | Lindale, GA | 08/06/2001 | NAFTA-5,176 | denim cloth.
Shermag (Wkrs) | North Anson, ME | 08/06/2001 | NAFTA-5,177 | miter box, construction tools.
Tingley Rubber (Co.) | S. Plainfield, NJ | 07/31/2001 | NAFTA-5,178 | rubber and protection footwear.
Pennzoil Quaker State (Wkrs) | Shreveport, LA | 08/13/2001 | NAFTA-5,179 | bulk oil products.
US Label Artistic (Wkrs) | Liberty, KY | 08/08/2001 | NAFTA-5,180 | handtags and care label.
Clifton Walls Industrial (Co.) | Clifton, TX | 08/07/2001 | NAFTA-5,181 | insulated clothing.
Sweetwater Walls Industrial (Co.) | Sweetwater, TX | 08/07/2001 | NAFTA-5,182 | insulated clothing.
Cognis Corporation (Wkrs) | Lock Haven, PA | 08/09/2001 | NAFTA-5,183 | dye intermediates.
Wisne Automation and Engineering (Wkrs) | Novi, MI | 08/08/2001 | NAFTA-5,184 | automated welding & assembly tooling.
Conveyco Manufacturing (Wkrs) | Clackamas, OR | 08/08/2001 | NAFTA-5,185 | wood conveying chain.
Lancer Partnership (Wkrs) | San Antonio, TX | 08/09/2001 | NAFTA-5,186 | beverage fittings.
McMichal (Co.) | Parump, NV | 08/08/2001 | NAFTA-5,187 | molds and tooling.
Cooper Standard Automotive (Co.) | Rocky Mount, NC | 08/08/2001 | NAFTA-5,188 | extruded rubber automotive parts.
Tyco Electronics (Wkrs) | East Berlin, PA | 08/09/2001 | NAFTA-5,189 | electrical connectors.
Men's Apparel Group (Wkrs) | Athensga, GA | 08/13/2001 | NAFTA-5,190 | men's tuxedos and suits.
Chiquita Processed Foods (Co.) | Eugene, OR | 08/09/2001 | NAFTA-5,191 | canned vegetables.
Warner Electric Brake (Wkrs) | Roscoe, IL | 08/01/2001 | NAFTA-5,192 | Industrial brakes and clutches.
Micro Motion (Co.) | Boulder, CO | 08/09/2001 | NAFTA-5,193 | mass flow meters.
Robert Bosch (UAW) | Ashland, OH | 08/06/2001 | NAFTA-5,194 | light truck braking systems.
Sweetheart Cup (IBEW) | Springfield, MO | 08/13/2001 | NAFTA-5,195 | plastic disposable food & drink products.
Phelps Dodge Magnet Wire (UAW) | Coral Gables, FL | 08/13/2001 | NAFTA-5,196 | magnet wire.
Alcatel USA (Wkrs) | Raleigh, NC | 08/13/2001 | NAFTA-5,197 | board assemble.
Sheftex (Wkrs) | St. Johnsbury, VT | 08/14/2001 | NAFTA-5,198 | comforters, draperies, cushions.
Plymouth Garment (Co.) | Plymouth, NC | 08/13/2001 | NAFTA-5,199 | children's pants.
Greensboro Printing (Wkrs) | Greensboro, NC | 08/13/2001 | NAFTA-5,200 | gang tags, lables for garments.
AC Enterprises Construction and Fab (Co.) | North Fargo, ND | 08/14/2001 | NAFTA-5,201 | grain drill products.
General Cable (EESMW) | Montroursville, PA | 08/14/2001 | NAFTA-5,202 | extension cords.
Consolidated Steel Services (Wkrs) | Fallentimber, PA | 08/14/2001 | NAFTA-5,203 | Railcar Parts.
Baker Enterprises (USWA) | Alpena, MI | 08/14/2001 | NAFTA-5,204 | Cement Block Machines.
Signet Armorlite, Inc. (Comp) | San Marcos, CA | 08/01/2001 | NAFTA-5,205 | Packaging of Ophtlamic Lenses.
Burlington Industries (Wkrs) | Johnson City, TN | 08/14/2001 | NAFTA-5,206 | Greige Cloth.
Bonifay Manufacturing, Inc. (Comp) | Bonifay, FL | 08/15/2001 | NAFTA-5,207 | Knit Shirts.
Dunlap Sales (Comp) | Hopkinsville, KY | 08/15/2001 | NAFTA-5,208 | Supply Equipment.
Layne Christensen (Comp) | Sal Lake City, UT | 08/08/2001 | NAFTA-5,209 | Down Hole Tools and Drill Rigs.
Elastic Corporation of America (Comp) | Haminquay, SC | 08/15/2001 | NAFTA-5,210 | Elastic for Clothing.
New Holland North America (Comp) | Belleville, PA | 08/15/2001 | NAFTA-5,211 | Component Parts and Welding.
Yarway Corp (IBT) | Blue Bell, PA | 08/15/2001 | NAFTA-5,212 | Values, Steam Traps.
Evergreen Sewing, Inc. (Comp) | Seattle | 08/15/2001 | NAFTA-5,213 | Fleece Clothing.
Horton, Inc. (Wrks) | Britton, SD | 08/14/2001 | NAFTA-5,214 | Parts, Assembly & Finished Parts.
APW (IAMAW) | Mayville, WI | 08/14/2001 | NAFTA-5,215 | Cabinet and Steel Frames.
Bard Access Systems (Comp) | Salt Lake City, UT | 08/15/2001 | NAFTA-5,216 | Medical Device Products.
Amphenol/Sine Systems (Wrks) | Mt. Clements, MI | 08/16/2001 | NAFTA-5,217 | Molded Cables and Adapters.
Chipman Union (UNITE) | Union Point, GA | 08/16/2001 | NAFTA-5,218 | Socks.
Henry Manufacturing Co (Wrks) | Los Angeles, CA | 08/10/2001 | NAFTA-5,219 | Girl's Garments.
Trico Products Corp (UAW) | Buffalo, NY | 08/14/2001 | NAFTA-5,220 | Windshield Wiper Systems.
Alcoa Fujikura Ltd (Comp) | San Antonio, TX | 08/20/2001 | NAFTA-5,221 | Automotive Products.
Cutler Hammer (Co.) | Pittsburgh, PA | 08/23/2001 | NAFTA-5,222 | Power Management Products.
Eaton Corp.—Cutler Hammer (Co.) | Moon Twp., PA | 08/20/2001 | NAFTA-5,223 | Power Management Products.
Eaton Corp.—Cutler Hammer (Co.) | Pittsburgh, PA | 08/20/2001 | NAFTA-5,224 | Power Management Products.
Illbruck Automotive (Co.) | Howell, MI | 08/16/2001 | NAFTA-5,225 | Door Water Shields.
Finet Technologies (Wkrs) | Dunmore, PA | 08/20/2001 | NAFTA-5,226 | Fibre Optic Communications.
Union Apparel (Wkrs) | Norvelt, PA | 08/17/2001 | NAFTA-5,227 | Men's and Ladies Blazers.
Realco Diversfield (Wkrs) | Meadville, PA | 08/17/2001 | NAFTA-5,228 | Mold Bases.
Edinboro Molding (Co.) | Edinboro, PA | 08/17/2001 | NAFTA-5,229 | Electronic Components.
Aquatech—Greenwood Mills (Co.) | Cookeville, TN | 08/21/2001 | NAFTA-5,230 | Finishing of Denim Products.
Allen Edmonds—Main Shoe (Wkrs) | Whiton, ME | 08/20/2001 | NAFTA-5,231 | Men's Handsewn.
Asarco (Wkrs) | El Paso, TX | 08/14/2001 | NAFTA-5,232 | Cooper.
Springs (Wkrs) | Portland, OR | 08/21/2001 | NAFTA-5,233 | Dresses.
WKS Motion Picture and Video Laboratory (Wkrs) | Pittsburgh, PA | 08/03/2001 | NAFTA-5,234 | Video Tape Stock, Video Shells.
Hassell Fabrication (Wkrs) | Ashland, OR | 08/03/2001 | NAFTA-5,235 NAFTA-5,236 | Trailer Chassis.
J and J Tool (Wkrs) | Guys Mills, PA | 08/29/2001 | NAFTA-5,236 | Steel Parts.
Versatile Mold and Design (Wkrs) | Rutledge, GA | 08/30/2001 | NAFTA-5,237 | plastic molds.
Sanmina Corporation (Wkrs) | Pleasant Prairie, WI | 08/29/2001 | NAFTA-5,238 | circuit boards.
Rundel Products (Co.) | Portland, OR | 08/24/2001 | NAFTA-5,239 | vinyl binders.
Valley Machining (Co.) | Rock Valley, IA | 08/27/2001 | NAFTA-5,240 | lincoln jacks and lubricating equipment.
Gillette Company—Oral B Laboratories (IBT) | Iowa City, IA | 08/27/2001 | NAFTA-5,241 | toothbrushes.
Rexam Beverage Can (USWA) | Houston, TX | 08/28/2001 | NAFTA-5,242 | cans.
Maxell Corporation of America (Co.) | Conyers, GA | 08/29/2001 | NAFTA-5,243 | video cassettes.
Hecla Mining—Luck Friday Unit (USWA) | Mullan, ID | 08/21/2001 | NAFTA-5,244 | silver, lead, zine, concentrates.
Eagle Pitcher Industries (IUOE) | Lubbock, TX | 08/27/2001 | NAFTA-5,245 | construction equipment.
Ieccor Electronics—Invensys (Wkrs) | Irving, TX | 08/24/2001 | NAFTA-5,246 | chip test.
Fedders Corporation (Wkrs) | Columbia, TN | 08/20/2001 | NAFTA-5,247 | room air conditioners.
Dillowtex Macon Distribution Center (Wkrs) | Macon, GA | 08/17/2001 | NAFTA-5,248 | towels, hand towels, washcloth.
Anvil International (Wkrs) | Statesboro, GA | 08/17/2001 | NAFTA-5,249 | butter fly valve.
Motorola—AOFC (Co.) | Suwanee, GA | 08/21/2001 | NAFTA-5,250 | battery packs, cell phones.
Willamette Industries (Co.) | Bend, OR | 08/20/2001 | NAFTA-5,251 | particle board.
Auto Body Connection (Wkrs) | Erie, PA | 08/23/2001 | NAFTA-5,252 | after market auto body parts.
Matco East Distribution Center (Wkrs) | Verona, VA | 08/13/2001 | NAFTA-5,253 | monitor.
Fashion Works (Co.) | Dallas, TX | 08/23/2001 | NAFTA-5,254 | ladies apparel.
Interroll Corporation (Co.) | Wilmington, NC | 08/21/2001 | NAFTA-5,255 | carton and pallet flow storage.
Blue Water Fiber Limited Partnership (Wkrs) | Port Huron, MI | 08/27/2001 | NAFTA-5,256 | recycled paper pulp.
FCI Electronics (Wkrs) | Clearfield, PA | 05/14/2001 | NAFTA-5,257 | computer parts.
Metal USA (Wkrs) | Youngtown, OH | 08/24/2001 | NAFTA-5,258 | steel sheets and blanks.
Speciality Coating of Virginia (Wkrs) | Ridgeway, VA | 08/24/2001 | NAFTA-5,259 | coated wallpaper.
Cliffs Mining Services (Wkrs) | Hibbing, MN | 08/21/2001 | NAFTA-5,260 | taconite mining research.
Hein Werner—Snap On (Co.) | Baraboo, WI | 08/24/2001 | NAFTA-5,261 | collision repair equipment.
Lamtech (Co.) | Hartsville, TN | 08/24/2001 | NAFTA-5,262 | apparel.
VF Imagewear (Co.) | Harriman, TN | 08/27/2001 | NAFTA-5,263 | garments.
Pliant Corporation (Co.) | Palmer, MA | 08/27/2001 | NAFTA-5,264 | plastic film.
Cleveland Caroknit—Spartan Int'l (Wkrs) | Lawndale, NC | 08/20/2001 | NAFTA-5,265 | knit apparel.
Unifirst Corporation (Wkrs) | Wilburton, OR | 08/24/2001 | NAFTA-5,266 | denim jeans, uniform jackets.
Jackson Percision Diecast (UAW) | Jackson, MI | 08/31/2001 | NAFTA-5,267 | transmission bushings dies.
Summit Circuits (RWDSU) | Fort Wayne, IN | 08/30/2001 | NAFTA-5,268 | printed circuit boards.
Trailmobile Trailer (Wkrs) | Liberal, KS | 08/30/2001 | NAFTA-5,269 | dry freight & refrigerated trailes.
Gerber Childrenswear (Co.) | Pelzer, SC | 08/22/2001 | NAFTA-5,270 | children's bed and bath goods.

[FR Doc. 01-23526 Filed 9-20-01; 8:45 am]

BILLING CODE 4510-30-M